SECURITIES AND EXCHANGE COMMISSION

[Release No. IC-24585]

Notice of Applications for Deregulation Under Section 8(f) of the Investment Company Act of 1940

July 28, 2000.

The following is a notice of applications for deregulation under section 8(f) of the Investment Company Act of 1940 for the month of July 2000. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on August 22, 2000, and should be accompanied by proof of service on the applicant, in the form of an affidavit or, for lawyers, a certificate of service. Hearing requests should state the nature of the writer's interest, the reason for the request, and the issues contested. Persons who wish to be notified of a hearing may request notification by writing to the Secretary. SEC, 450 Fifth Street, NW., Washington, DC 20549-0609. For Further Information Contact: Diane L. Titus, at (202) 942-0564, SEC, Division of Investment Management, Office of Investment Company Regulation, 450 Fifth Street, NW., Washington, DC 20549-0506.

Senior Floating Income Fund, Inc. [File No. 811-9111]

Summary: Applicant seeks an order declaring that it has ceased to be an investment company. Applicant has never made a public offering of its securities and does not propose to make any public offering or engage in business of any kind.

Filing Dates: The application was filed on April 19, 2000, and amended on July 10, 2000.

Applicant's Address: c/o Fund Asset Management L.P., P.O. Box 9011, Princeton, New Jersey 08543-9011.

Fundmanager Portfolios [File No. 811-8992]

Summary: Applicant seeks an order declaring that it has ceased to be an investment company. On April 28, 2000 applicant distributed all of its assets to its shareholders based on net asset value. Expenses of $4,705 incurred in connection with the liquidation were paid by applicant.

Filing Date: The application was filed on June 23, 2000.

Applicant's Address: One Beacon Street, 5th Floor, Boston, Massachusetts 02108.

Piper Funds Inc. [File No. 811-4905]; American Government Income Fund Inc. [File No. 811-5470]; American Government Income Fund Inc. [File No. 811-5622]; American Opportunity Income Fund Inc. [File No. 811-5854]; Piper Global Funds Inc. [File No. 811-6046]; Piper Funds Inc.—II [File 811-7279]; Highlander Income Fund Inc. [File No. 811-8280]

Summary: Each applicant seeks an order declaring that it has ceased to be an investment company. By August 28, 1998, each applicant has transferred its assets to Fist American Investment Funds, Inc. based on net asset value. Expenses of $125,536, $19,524, $19,524, $20,923, $10,461, and $19,524, respectively, were incurred in connection with the reorganizations and were paid by U.S. Bank National Association, investment adviser to the acquiring fund.

Filing Date: The applications were filed on June 28, 2000.

Applicants' Address: First American Asset Management, U.S. Bank Place, 601 Second Avenue South, Minneapolis, Minnesota 55402.

Insured Tax Free Income Trust National Series 85-1 (and Subsequent Series of the Trust) [File No. 811-4121]

Summary: Applicant, a unit investment trust, seeks an order declaring that it has ceased to be an investment company. On December 16, 1999, applicant made a final liquidating distribution to shareholders based on net asset value. No expenses were incurred in connection with the liquidation.

Filing Date: The application was filed on July 6, 2000.

Applicant's Address: c/o Van Kampen Funds Inc., Administrator, 1 Parkview Plaza, P.O. Box 5555, Oakbrook Terrace, Illinois 60181-5555.

The Explorer Institutional Trust [File No. 811-8808]

Summary: Applicant seeks an order declaring that it has ceased to be an investment company. By April 28, 2000, applicant had distributed all of its assets to shareholders based on net asset value. Expenses of $75 incurred in connection with the liquidation were paid by Van Kampen Management Inc., applicant's investment adviser.

Filing Date: The application was filed on June 30, 2000.

Applicant's Address: 1 Parkview Plaza, P.O. Box 5555, Oakbrook Terrance, Illinois 60181-5555.

U.S. Small Company Portfolio [File No. 811-8954]; Emerging Markets Portfolio [File No. 811-8233]; U.S. Mid-Cap Portfolio [File No. 811-8467]

Summary: Each applicant seeks an order declaring that it has ceased to be an investment company. By October 27, 1999, all shareholders of U.S. Small Company Portfolio had redeemed their shares at net asset value. By October 30, 1998, all shareholders of Emerging Markets Portfolio had redeemed their shares at net asset value. On February 16, 1999, U.S. Mid-Cap Portfolio made a liquidating distribution to its shareholders based on net asset value. No expenses were incurred in connection with the liquidations.

Filing Dates: The applications for U.S. Small Company Portfolio and Emerging Markets Portfolio were filed on April 12, 2000, and the application for U.S. Mid-Cap Portfolio was filed on April 13, 2000. Each application was amended on July 11, 2000.

Applicants' Address: Butterfield House, 4th Floor, Fort Street, P.O. Box 2330, George Town, Grand Canyon, Cayman Islands, B.W.I.

For the Commission, by the Division of Investment Management, pursuant to delegated authority.
Margaret H. McFarland,
Deputy Secretary.

[FR Doc. 00-19674 Filed 8-2-00; 8:45 am]

BILLING CODE 8010-01-M